DEPARTMENT OF AGRICULTURE

Forest Service

Newspapers of Record for the Pacific Southwest Region; California

Correction

In notice document 05-5134 beginning on page 12841 in the issue of Wednesday, March 16, 2005 make the following corrections:

1. On page 12841, in the third column, under the heading Angeles National Forest, California, under the entry “Forest Supervisor Decisions:” in the first line, “times” should read “Times”.

2. On page 12843, in the first column, under the heading Six Rivers National Forest, California, under the entry “Orleans and Lower Trinity Districts:”, in the first line, “The Kourie” should read “The Kourier”.

[FR Doc. C5-5134 Filed 4-18-05; 8:45 am]

BILLING CODE 1505-01-D